FEDERAL FINANCIAL INSTITUTIONS EXAMINATION COUNCIL

Appraisal Subcommittee; Information Collection Revision Submitted for OMB Review

AGENCY: Appraisal Subcommittee, Federal Financial Institutions Examination Council.

ACTION: Notice of information collection reinstatement submitted to OMB for review and approval under the Paperwork Reduction Act of 1980.

SUMMARY: In accordance with the Paperwork Reduction Act of 1980 (44 U.S.C. Chapter 35), the Appraisal Subcommittee of the Federal Financial Institutions Examination Council (“ASC”) has sent to the Office of Management and Budget (“OMB”) the following reinstatement, without change, of a previously approved collection for which approval has expired.

DATES: Comments on this information collection must be received on or before May 30, 2006.

ADDRESSES: Send comments to Ben Henson, Executive Director, Appraisal Subcommittee, 2000 K Street, NW., Suite 310, Washington, DC 20006; and Mark D. Menchik, Clearance Officer, Office of Management and Budget, New Executive Office Building, Room 10236, Washington, DC 20503.

FOR FURTHER INFORMATION CONTACT: Marc L. Weinberg, General Counsel, Appraisal Subcommittee, 2000 K Street, NW., Suite 310, Washington, DC 20006, from whom copies of the information collection and supporting documents are available.

Summary of Revision

Title: 12 CFR Part 1102, Subpart B; Rules of Practice for Proceedings.

Type of Review: Regular submission.

Description: Procedures for ASC non-recognition and “further action” proceedings against State appraiser regulatory agencies and other persons under section 1118 of Title XI of the Financial Institutions Reform, Recovery, and Enforcement Act of 1989 (12 U.S.C. 3347).

Form Number: None.

OMB Number: 3139-0005.

Affected Public: State, local or tribal government.

Number of Respondents: 55 respondents.

Total Annual Responses: 2 responses.

Average Hours Per Response: 60 hours.

Total Annual Burden Hours: 120 hours.

By the Appraisal Subcommittee of the Federal Financial Institutions Examination Council.
Dated: April 25, 2006.
Marc L. Weinberg,
Acting Executive Director & General Counsel.

[FR Doc. E6-6449 Filed 4-27-06; 8:45 am]

BILLING CODE 6210-01-P